DEPARTMENT OF THE INTERIOR

Bureau of Land Management

[UT-923-06-1320-00]

Notice of Federal Competitive Coal Lease Sale, Utah

AGENCY: Bureau of Land Management, Interior.

ACTION: Notice of Competitive Coal Lease Sale, Kenilworth Tract Coal Lease Application UTU-81893.

SUMMARY: Notice is hereby given that the United States Department of the Interior, Bureau of Land Management-Utah State Office will offer certain coal resources described below as the Kenilworth Tract (UTU-81893) in Carbon County, Utah, for competitive sale by sealed bid, in accordance with the provisions for competitive lease sales in 43 CFR 3422.2(a), and the Mineral Leasing Act of 1920, as amended and supplemented (30 U.S.C. 181 et seq.).

DATES: The lease sale will be held at 1 p.m., Thursday June 8, 2006. The bid must be sent by certified mail, return receipt requested, or be hand delivered to the address indicated below, and must be received on or before 10 a.m., Thursday, June 8, 2006. The Cashier will issue a receipt for each hand delivered sealed bid. Any bid received after the time specified will not be considered and will be returned. The outside of the sealed envelope containing the bid must clearly state that envelope contains a bid for Coal Lease Sale UTU-81893, and is not to be opened before the date and hour of the sale.

ADDRESSES: The lease sale will be held in the Utah State Office, Bureau of Land Management in the Monument Conference Room, Fifth Floor, 440 West 200 South, Salt Lake City, Utah. Sealed bids can be hand delivered to the cashier, Utah State Office, 440 West 200 South, Suite 500, Salt Lake City, Utah, or may be mailed to the Bureau of Land Management, Utah State Office, P.O. Box 45155, Salt Lake City, Utah 84145-0155.

FOR FURTHER INFORMATION CONTACT: Stan Perkes, 440 West 200 South, Suite 500, Salt City, Utah 84101-1345 or telephone 801-539-4036.

SUPPLEMENTARY INFORMATION: This Coal Lease Sale is being held in response to a lease by application (LBA) filed by Andalex Resources Inc. The coal resources to be offered consist of all recoverable reserves available in the following described lands located in Carbon County, Utah approximately eight miles northeast of Helper, Utah on private lands with federally administered minerals:

T. 12 S., R. 10 E., SLM, Carbon County, Utah

Sec. 26, N½SW¼, SE¼SW¼, SE¼;

Sec. 27, S½;

Sec. 34, S½NE¼, NW¼NE¼, NW¼, S½;

Sec. 35, NE¼, S½NW¼, S½.

Containing 1,760.00 acres

The Kenilworth coal tract has one or more minable coal beds. The minable portions of the Castlegate A coal bed in this area is around six to twelve feet in thickness. The Castlegate A bed contains more than 14.9 million tons of recoverable high-volatile A bituminous coal. The Kenilworth coal bed may be recoverable but further analysis will be required through. The estimated coal quality in the Castlgate A coal bed on an “as received basis” is as follows:

13,060 | Btu/lb.,
2.92 | Percent moisture,
7.61 | Percent ash,
41.82 | Percent volatile matter,
47.83 | Percent fixed carbon,
0.41 | Percent sulfur.

The Kenilworth Tract will be leased to the qualified bidder of the highest cash amount, provided that the high bid equals or exceeds the Fair Market Value (FMV) for the tract as determined by the authorized officer after the Sale. The Department of the Interior has established a minimum bid of $100 per acre or fraction thereof for the tracts. The minimum bid is not intended to represent the FMV. The lease issued as a result of this offering will provide for payment of an annual rental of $3 per acre, a royalty rate of 12.5 percent of the value of coal mined by surface methods, and a royalty of 8 percent of the value of the coal produced by underground mining methods. The value of the coal will be determined in accordance with 30 CFR 206.250.

The required Detailed Statement, including bidding instructions for the offered tracts and the terms and conditions of the proposed coal lease, is available from Bureau of Land Management, Utah State Office, P.O. Box 45155, Salt Lake City, Utah 84145-0155 or in the Public Room (Room 500), 440 West 200 South, Salt Lake City, Utah 84101. All case file documents and written comments submitted by the public on Fair Market Value or royalty rates except those portions identified as proprietary by the commentator and meeting exemptions stated in the Freedom of Information Act, are available for public inspection during normal business hours in the Public Room (Room 500) of the Bureau of Land Management.

Kent Hoffman,
Deputy State Director, Lands and Minerals.

[FR Doc. E6-8796 Filed 6-6-06; 8:45 am]

BILLING CODE 4310-DK-P